DEPARTMENT OF VETERANS AFFAIRS

[OMB Control No. 2900-0583]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before November 22, 2004.

FOR FURTHER INFORMATION CONTACT: Denise McLamb, Records Management Service (005E3), Department of Veterans Affairs, 810 Vermont Avenue, NW., Washington, DC 20420, (202) 273-8030, FAX (202) 273-5981 or e-mail to: denise.mclamb@mail.va.gov. Please refer to “OMB Control No. 2900-0583.”

Send comments and recommendations concerning any aspect of the information collection to VA's OMB Desk Officer, OMB Human Resources and Housing Branch, New Executive Office Building, Room 10235, Washington, DC 20503, (202) 395-7316. Please refer to “OMB Control No. 2900-0583” in any correspondence.

SUPPLEMENTARY INFORMATION: Title: Regulation for Informed Consent for Patient Care (Title 38 CFR 17.32).

OMB Control Number: 2900-0583.

Type of Review: Extension of a currently approved collection.

Abstract: VA informed consent regulation describes patient rights and responsibilities and the process for obtaining informed consent. It contains procedures that providers (including non-VA physicians who contract to perform services for VA on a fee-basis) must follow when seeking informed consent from a VA beneficiary (e.g., discussion of the benefits, risk and alternatives for the recommended treatment or procedure and documentation of the patient's decision). The information provided is designed to ensure that the patients (or, when appropriate, the patient's representative or surrogate) have sufficient information to provide informed consent.

An agency may not conduct or sponsor, and a person is not required to respond to a collection of information unless it displays a currently valid OMB control number. The Federal Register notice with a 60-day comment period soliciting comments on this collection of information was published on July 16, 2004, at pages 42808-428096.

Affected Public: Individuals or households.

Estimated Total Annual Burden: 94,000 hours.

Estimated Average Burden Per Respondent: 15 minutes.

Frequency of Response: On occasion.

Estimated Number of Respondents: 376,000.

Dated: October 12, 2004.
By direction of the Secretary:
Loise Russell,
Director, Records Management Service.

[FR Doc. 04-23490 Filed 10-20-04; 8:45 am]

BILLING CODE 8320-01-P